DEPARTMENT OF LABOR

Employee Benefits Security Administration

197th Meeting of the Advisory Council on Employee Welfare and Pension Benefit Plans; Notice of Meeting

Pursuant to the authority contained in Section 512 of the Employee Retirement Income Security Act of 1974 (ERISA), 29 U.S.C. 1142, the 197th meeting of the Advisory Council on Employee Welfare and Pension Benefit Plans (also known as the ERISA Advisory Council) will be held on August 27-29, 2019.

The three-day meeting will take place at the U.S. Department of Labor, 200 Constitution Avenue NW, Washington, DC 20210 in N5437 A-C. The meeting will run from 1:00 p.m. to approximately 5:30 p.m. on August 27, from 9:00 a.m. to approximately 5:30 p.m. on August 28 with a one hour break for lunch, and from 9:00 a.m. to 11:00 a.m. on August 29. The purpose of the open meeting is for Advisory Council members to hear testimony from invited witnesses and to receive an update from the Employee Benefits Security Administration (EBSA). The EBSA update is scheduled for the morning of August 29, subject to change.

The Advisory Council will study the following topics: (1) Beyond Plan Audit Compliance: Improving the Financial Statement Audit Process (on August 27); and, (2) Permissive Transfers of Uncashed Checks from ERISA Plans to State Unclaimed Property Funds (on August 28). The Advisory Council will continue with discussions of its topics on August 29. Descriptions of these topics are available on the Advisory Council page of the EBSA website, at https://www.dol.gov/agencies/ebsa/about-ebsa/about-us/erisa-advisory-council.

Organizations or members of the public wishing to make a written submission may do so by sending 40 copies on or before August 20, 2019, to Larry Good, Executive Secretary, ERISA Advisory Council, U.S. Department of Labor, Suite N-5623, 200 Constitution Avenue NW, Washington, DC 20210. Submissions may be sent as email attachments in word processing or pdf format transmitted to good.larry@dol.gov. It is requested that submissions not be included in the body of the email. Submissions deemed relevant by the Advisory Council and received on or before August 20 will be included in the record of the meeting and made available through the EBSA Public Disclosure Room, along with witness statements. Do not include any personally identifiable information (such as name, address, or other contact information) or confidential business information that you do not want publicly disclosed.

Individuals or representatives of organizations wishing to address the Advisory Council should forward their requests to the Executive Secretary or telephone (202) 693-8668. Oral presentations will be limited to 10 minutes, time permitting, but an extended statement may be submitted for the record. Individuals with disabilities who need special accommodations should contact the Executive Secretary by August 20.

Signed at Washington, DC, this 6th day of August, 2019.
Preston Rutledge,
Assistant Secretary, Employee Benefits Security Administration.

[FR Doc. 2019-17347 Filed 8-12-19; 8:45 am]

BILLING CODE 4510-29-P